NUCLEAR REGULATORY COMMISSION

[Docket Nos. 50-354, 50-272, 50-311, 50-277, and 50-278; CEQ ID SEIS-429-00-000-1732152679; NRC-2024-0206]

PSEG Nuclear, LLC; Hope Creek Generating Station; Salem Generating Station, Units 1 and 2; and Peach Bottom Atomic Power Station, Units 2 and 3; Environmental Assessment and Finding of No Significant Impact

AGENCY: Nuclear Regulatory Commission.

ACTION: Notice; issuance.

SUMMARY: The U.S. Nuclear Regulatory Commission (NRC) is considering issuance of exemptions in response to the May 28, 2024, request from PSEG Nuclear, LLC (the licensee) for Hope Creek Generating Station (Hope Creek); Salem Generating Station, Units 1 and 2 (Salem); and Peach Bottom Atomic Power Station, Units 2 and 3 (Peach Bottom). The exemptions would allow the licensee to periodically transfer earnings from funds dedicated for radiological decommissioning activities in its nuclear decommissioning trust (NDT) into separately maintained subaccounts within the NDT for certain activities not within the definition of “decommission” in NRC regulations without prior NRC notification. The NRC staff is issuing an environmental assessment (EA) and finding of no significant impact (FONSI) associated with the proposed exemptions.

DATES: The EA and FONSI referenced in this document are available on December 20, 2024.

ADDRESSES: Please refer to Docket ID NRC-2024-0206 when contacting the NRC about the availability of information regarding this document. You may obtain publicly available information related to this document using any of the following methods:

• Federal Rulemaking Website: Go to https://www.regulations.gov and search for Docket ID NRC-2024-0206. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Rachael Davis, Office of Nuclear Reactor Regulation, U.S. Nuclear Regulatory Commission, Washington, DC 20555-0001; telephone: 301-415-0805; email: Rachael.Davis@nrc.gov.

SUPPLEMENTARY INFORMATION:

I. Introduction

The NRC is considering issuance of exemptions from the requirements in paragraphs 50.82(a)(8)(i)(A) and 50.75(h)(1)(iv) of title 10 of the Code of Federal Regulations (10 CFR) to the licensee for Renewed Facility License Nos. NPF-57, DPR-70, DPR-75, DPR-44, and DPR-56 for Hope Creek Generating Station (Hope Creek); Salem Generating Station, Units 1 and 2 (Salem); and Peach Bottom Atomic Power Station, Units 2 and 3 (Peach Bottom), respectively. Hope Creek and Salem are co-located in Hancocks Bridge, NJ, and Peach Bottom is located in Delta, PA. The licensee requested the exemptions by letter dated May 28, 2024. The exemptions would permit the licensee to periodically transfer future earnings from the nuclear decommissioning trust (NDT) into “non-50.75” subaccounts within the NDT without prior notice to the NRC. The non-50.75 subaccounts would be used to separately account for funds to pay for “decommissioning costs,” as defined by the U.S. Treasury Department,¹ for each site, that do not fall within the definition of “decommission” in 10 CFR 50.2. These costs include costs for radiological and non-radiological activities, including major radioactive component (MRC) disposal, site restoration activities, and certain spent fuel management activities.

¹ Title 26 of the CFR (26 CFR), section 1.468A-1(b)(6), of the Treasury Department regulations implementing section 468A of the Internal Revenue Code.

As required by 10 CFR 51.21, the NRC performed an EA that analyzed the environmental impacts of the proposed action. Based on the results of the EA that follows, and in accordance with 10 CFR 51.31(a), the NRC has determined not to prepare an environmental impact statement for the exemptions and, rather, is issuing a FONSI.

II. Environmental Assessment

Description of the Proposed Action

Exemptions from 10 CFR 50.82(a)(8)(1)(A) and 10 CFR 50.75(h)(1)(iv) would allow the licensee to transfer excess earnings from funds dedicated to radiological decommissioning in the NDT into subaccounts within the NDT to use for decommissioning costs that do not fall under the definition in 10 CFR 50.2, such as spent fuel management, disposal of MRCs, and site restoration activities. Exemptions from 10 CFR 50.75(h)(1)(iv) would also allow the licensee to make transfers from the NDT into subaccounts without prior notification to the NRC.

The proposed action is in accordance with the licensee's application dated May 28, 2024.

Need for the Proposed Action

As required by 10 CFR 50.82(a)(8)(i)(A), decommissioning trust funds may be used by the licensee if the withdrawals are for legitimate decommissioning activity expenses, consistent with the definition of “decommission” in 10 CFR 50.2. This definition addresses radiological decommissioning and does not include activities associated with disposal of MRCs during plant operations, spent fuel management, or site restoration.

The requirements of 10 CFR 50.75(h)(1)(iv) restrict the use of DTF disbursements (other than for ordinary and incidental expenses) to decommissioning expenses until final decommissioning has been completed. Therefore, exemptions from 10 CFR 50.82(a)(8)(i)(A) and 10 CFR 50.75(h)(1)(iv) are needed to allow the licensee to use funds from the NDTs for purposes not restricted to radiological decommissioning. In its submittal, the licensee stated that, if granted, the funds transferred into non-50.75 subaccounts within the NDT would remain subject to other applicable requirements, including the Decommissioning Trust Agreement. The licensee states that if it cannot use the excess funds in the NDT to pay for decommissioning activities other than those considered radiological decommissioning until after the completion of radiological decommissioning, then the licensee would need to provide additional funds to pay for those activities that would not be recoverable from the NDT until after final completion of radiological decommissioning. The licensee stated that the transferred funds would be used to pay for decommissioning costs as defined by the U.S. Treasury Department in 26 CFR 1.468A-1(b)(6), for each site. These costs include costs for radiological and non-radiological activities, including MRC disposal, site restoration activities, and certain spent fuel management activities. The requirements of 10 CFR 50.75(h)(1)(iv) further provide that, except for withdrawals being made under 10 CFR 50.82(a)(8) or for payments of ordinary administrative costs and other incidental expenses of the NDTs in connection with the operation of the NDTs, no disbursement may be made from the NDTs without written notice to the NRC at least 30 working days in advance. Therefore, an exemption from 10 CFR 50.75(h)(1)(iv) is also needed to allow the licensee to use funds from the NDTs for spent fuel management and disposal of MRCs without prior NRC notification. In summary, by letter dated May 28, 2024, the licensee requested exemptions to allow transfers of excess earnings from funds dedicated to radiological decommissioning in the NDT into subaccounts, without prior written notification to the NRC, for spent fuel management, disposal of MRCs, and site restoration.

Environmental Impacts of the Proposed Action

The proposed action involves exemptions from regulatory requirements that are of a financial nature and that do not have an incremental impact on the environment. The proposed action does not introduce new operational activities beyond actions covered under the current licensing bases and the current environmental impact statements, rather the proposed action allows the licensee to transfer excess earnings from the NDT dedicated to radiological decommissioning as defined in 10 CFR 50.2 into subaccounts within the NDT to pay for other decommissioning costs not described under the regulation. The NRC has completed its evaluation of the proposed action and found that reasonable assurance exists that adequate funds will be available in PSEG's NDT to complete radiological decommissioning and terminate the Part 50 licenses for Salem, Hope Creek, and Peach Bottom. Therefore, the NRC staff concludes that there will be no environmental impacts from the proposed action.

Due to the proposed action being financial in nature, it will not significantly increase the probability or consequences of radiological accidents. The NRC staff has concluded that the proposed action has no direct radiological impacts. There would be no change to the types or amounts of radiological effluents that may be released; therefore, there would be no change in occupational or public radiation exposure from the proposed action. There are no materials or chemicals introduced into the plant that could affect the characteristics or types of effluents released offsite. In addition, the method of operation of waste processing systems would not be affected by the exemption. The proposed action will not result in changes to the design basis requirements of structures, systems, and components (SSCs) that function to limit or monitor the release of effluents. All the SSCs associated with limiting the release of effluents will continue to be able to perform their functions. Moreover, no changes would be made to plant buildings or the site property from the proposed action. Therefore, there are no significant radiological environmental impacts associated with the proposed action.

With regard to potential non-radiological impacts, the proposed action would have no direct impacts on land use or water resources, including terrestrial and aquatic biota, as it involves no new construction or modification of plant operational systems. There would be no changes to the quality or quantity of non-radiological effluents, and no changes to the plant's National Pollutant Discharge Elimination System permits would be needed. In addition, there would be no noticeable effect on socioeconomic conditions in the region, no environment justice impacts, no air quality impacts, and no impacts to historic and cultural resources from the proposed action. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the proposed action would result in no change in current environmental impacts. Therefore, the environmental impacts of the proposed action and the alternative action are similar.

Alternative Use of Resources

There are no unresolved conflicts concerning alternative uses of available resources under the proposed action.

Agencies and Persons Consulted

No additional agencies or persons were consulted regarding the environmental impact of the proposed action.

III. Finding of No Significant Impact

The licensee has requested exemptions from 10 CFR 50.82(a)(8)(i)(A) and 10 CFR 50.75(h)(1)(iv), which would allow the licensee to transfer excess earnings from the NDT dedicated to radiological decommissioning into subaccounts within the NDT for decommissioning costs as defined by the U.S Treasury Department without prior written notification to the NRC. The proposed action would not significantly affect plant safety, would not have a significant adverse effect on the probability of an accident occurring, and would not have any significant radiological or non-radiological impacts. The reason the human environment would not be significantly affected is that the proposed action involves an exemption from requirements that are of a financial nature and that do not have an impact on the human environment. Consistent with 10 CFR 51.21, the NRC conducted an EA for the proposed action, and this FONSI incorporates the EA included in section II. Therefore, the NRC concludes that the proposed action will not have significant effects on the quality of the human environment. Accordingly, the NRC has determined not to prepare an environmental impact statement for the proposed action.

Other than the licensee's letter dated May 28, 2024, there are no other environmental documents associated with this review. This document is available for public inspection as indicated in section I.

Other considerations regarding the environmental impacts of operating Hope Creek and Salem are described in the “Final Environmental Statement Related to the Salem Nuclear Generating Station Units 1 and 2, Public Service Electric and Gas Company,” dated April 1973, and NUREG-1074,”Final Environmental Statement Related to the Operation of Hope Creek Generating Station,” dated December 1984. The most recent environmental impact statement for Hope Creek and Salem is NUREG-1437, Supplement 45, “Generic Environmental Impact Statement for License Renewal of Nuclear Plants: Regarding Hope Creek Generating Station and Salem Nuclear Generating Station, Units 1 and 2,” Final Report, dated March 2011.

Other considerations regarding the environmental impacts of operating Peach Bottom are described in the “Final Environmental Statement Related to Operation of Peach Bottom Atomic Power Station Units 2 and 3,” dated April 1973; NUREG-1437,Supplement 10, “Generic Environmental Impact Statement for License Renewal of Nuclear Plants: Regarding License Renewal for Peach Bottom Atomic Power Station Units 2 and 3,” dated January 2003. The most recent environmental impact statement for Peach Bottom is NUREG-1437,Supplement 10, “Generic Environmental Impact Statement for License Renewal of Nuclear Plants: Regarding License Renewal for Peach Bottom Atomic Power Station Units 2 and 3,” dated January 2020.

IV. Availability of Documents

The documents identified in the following table are available to interested persons through one or more of the following methods, as indicated.

Document description | Adams accession No.
Letter from PSEG Nuclear, LLC to NRC titled, “Request for Exemptions from 10 CFR 50.82(a)(8)(i)(A) and 10 CFR 50.75(h)(1)(iv) and Proposed Amendment to the Decommissioning Trust Agreement,” dated May 28, 2024 | ML24150A002 (Package).
Final Environmental Statement Related to the Salem Nuclear Generating Station, Units 1 and 2, Public Service Electric and Gas Company, dated April 1973 | ML110400162.
NUREG-1074,”Final Environmental Statement Related to the Operation of Hope Creek Generating Station,” December 1984 | ML20101K322.
NUREG-1437, Supplement 45, “Generic Environmental Impact Statement for License Renewal of Nuclear Plants: Regarding Hope Creek Generating Station and Salem Nuclear Generating Station, Units 1 and 2,” dated March 2011 | ML11089A021.
Final Environmental Statement Related to Operation of Peach Bottom Atomic Power Station, Units 2 and 3, dated April 1973 | ML18291A605.
NUREG-1437,Supplement 10, “Generic Environmental Impact Statement for License Renewal of Nuclear Plants: Regarding License Renewal for Peach Bottom Atomic Power Station Units 2 and 3,” dated January 2003 | ML030150366 (Package).
NUREG-1437,Supplement 10, “Generic Environmental Impact Statement for License Renewal of Nuclear Plants: Regarding Subsequent License Renewal for Peach Bottom Atomic Power Station Units 2 and 3,” dated January 2020 | ML20023A937.

Dated: December 16, 2024.
For the Nuclear Regulatory Commission.
Audrey L. Klett,
Senior Project Manager, Plant Licensing Branch 1, Division of Operating Reactor Licensing, Office of Nuclear Reactor Regulation.

[FR Doc. 2024-30394 Filed 12-19-24; 8:45 am]

BILLING CODE 7590-01-P